DEPARTMENT OF HEALTH AND HUMAN SERVICES

Centers for Disease Control and Prevention

[30Day-18-0932]

Agency Forms Undergoing Paperwork Reduction Act Review

In accordance with the Paperwork Reduction Act of 1995, the Centers for Disease Control and Prevention (CDC) has submitted the information collection request titled Information Collection for Evaluation of Education, Communication, and Training Activities for Mobile Populations to the Office of Management and Budget (OMB) for review and approval. CDC previously published a “Proposed Data Collection Submitted for Public Comment and Recommendations” notice on October 30, 2017 to obtain comments from the public and affected agencies. CDC received four comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

Information Collection for Evaluation of Education, Communication, and Training Activities for Mobile Populations (OMB Control Number 0920-0932, Expiration 07/31/2018)—Revision—National Center for Emerging and Zoonotic Infectious Diseases (NCEZID), Centers for Disease Control and Prevention (CDC).

Background and Brief Description

The Centers for Disease Control and Prevention (CDC) Division of Global Migration and Quarantine (DGMQ) is requesting a three-year revision of a currently approved generic clearance to conduct evaluation research. This will help CDC plan and implement health communication, education, and training activities to improve health and prevent the spread of disease. These activities include communicating, educating, and training with international travelers and other mobile populations, training healthcare providers, and educating public health departments, federal partners, and other stakeholders.

The information collection for which the revision is sought is in accordance with DGMQ's mission to reduce morbidity and mortality among immigrants, refugees, travelers, expatriates, and other globally mobile populations, and to prevent the introduction, transmission, or spread of communicable diseases from foreign countries into the United States. This mission is supported by delegated legal authorities outlined in the Public Health Service (PHS) Act (42 U.S.C. 264) and in regulations that are codified in 42 Code of Federal Regulations (CFR) parts 70 and 71, and 34.

Approval of this revision request will allow DGMQ to continue collecting, in an expedited manner, information about the knowledge, attitudes, and behaviors of key audiences (such as refugees, immigrants, migrants, international travelers, travel industry partners, healthcare providers, non-profit agencies, customs brokers and forwarders, schools, state and local health departments) to help improve and inform these activities during both routine and emergency public health events. This generic OMB clearance will help DGMQ continue to refine these efforts in a timely manner, and will be especially valuable for communication activities that must occur quickly in response to public health emergencies.

DGMQ staff will use a variety of data collection methods for this proposed project: interviews, focus groups, surveys, and pre/post-tests. Depending on the research questions and audiences involved, data may be gathered in-person, by telephone, online, or using some combination of these formats. Data may be collected in quantitative and/or qualitative forms. Numerous audience variables will be assessed under the auspices of this generic OMB clearance. These include, but are not limited to, knowledge, attitudes, beliefs, behavioral intentions, practices, behaviors, skills, self-efficacy, and information needs and sources. Insights gained from evaluation research will assist in the development, refinement, implementation, and demonstration of outcomes and impact of communication, education, and training activities.

DGMQ estimates that 17,500 respondents and 7,982 hours of burden will be involved in evaluation research activities each year. The information being collected will not impose a cost burden on the respondents beyond that associated with their time to provide the required data.

For this submission, requested burden has been reduced from 37,500 respondents and 17,835 burden hours to 17,500 respondents and 7,982 burden hours due to a reduction in the number of estimated number of collections per year from ten to five and a two thirds reduction in pre- and post-tests requested for both types of respondents: healthcare professionals and the general public.

Estimated Annualized Burden Hours
Type of respondents | Form name | Number of respondents | Number of responses per respondent | Average burden per response (in hours)
General Public | Focus Groups Screening form | 1,050 | 1 | 10/60
Healthcare Professionals | Focus Groups Screening form | 450 | 1 | 10/60
General Public | Focus Groups | 525 | 1 | 90/60
Healthcare Professionals | Focus Groups | 225 | 1 | 90/60
General Public | Interview Screening Form | 700 | 1 | 10/60
Healthcare Professionals | Interview Screening Form | 300 | 1 | 10/60
General Public | Interviews | 350 | 1 | 1
Healthcare Professionals Interviews | Interviews | 150 | 1 | 1
General Public | Survey Screening Forms | 5,250 | 1 | 10/60
Healthcare Professionals | Survey Screening Forms | 2,250 | 1 | 10/60
General Public | Surveys | 2,625 | 1 | 45/60
Healthcare Professionals | Surveys | 1,125 |  | 45/60
General Public | Pre/Post Tests | 1,750 | 1 | 45/60
Healthcare Professionals | Pre/Post Tests | 750 | 1 | 45/60

Leroy A. Richardson,
Chief, Information Collection Review Office, Office of Scientific Integrity, Office of the Associate Director for Science, Office of the Director, Centers for Disease Control and Prevention.

[FR Doc. 2018-07017 Filed 4-5-18; 8:45 am]

BILLING CODE 4163-18-P